DEPARTMENT OF HEALTH AND HUMAN SERVICES

Administration for Children and Families

Submission for OMB Review; Head Start Grant Application; (OMB #0970-0207)

AGENCY: Office of Head Start, Administration for Children and Families, Health and Human Services (HHS).

ACTION: Request for public comment.

SUMMARY: The Administration for Children and Families (ACF) is requesting a 3-year extension of the Head Start Grant Application Instrument and Instructions (OMB #0970-0207, expiration 04/30/2022). There are no substantive changes requested to the instruments, but a few minor changes have been made to the reporting structure of applications related to facilities to reflect the information already being submitted by grant recipients.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: To receive Head Start funding, Head Start grant recipients must apply for such funds through this information collection. The information submitted by applicants assists program and grant officials in determining whether the applicant meets the requirements for funding under the Head Start Act including any requirements specified in annual appropriations by Congress.

Respondents: Head Start grant recipients.

Annual Burden Estimates
Instrument | Total number of respondents | Number of responses per respondent | Average burden hours per response | Annual burden hours
Head Start Grant Application | 1,600 | 2.5 | 25 | 100,000

Estimated Total Annual Burden Hours: 100,000.

Authority: 42 U.S.C. 9801 et seq.

Mary B. Jones,
ACF/OPRE Certifying Officer.

[FR Doc. 2022-08651 Filed 4-21-22; 8:45 am]

BILLING CODE 4184-40-P